FEDERAL COMMUNICATIONS COMMISSION

Public Information Collection Requirement Submitted to OMB for Review and Approval, Comments Requested

October 22, 2008.

SUMMARY: The Federal Communications Commission, as part of its continuing effort to reduce paperwork burden, invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before November 28, 2008. If you anticipate that you will be submitting comments, but find it difficult to do so within the period of time allowed by this notice, you should advise the contacts listed below as soon as possible.

ADDRESSES: Direct all PRA comments to Nicholas A. Fraser, Office of Management and Budget, via Internet at Nicholas_A._Fraser@omb.eop.gov or via fax at (202) 395-5167 and to Cathy Williams, Federal Communications Commission, Room 1-C823, 445 12th Street, SW., Washington, DC or via Internet at Cathy.Williams@fcc.gov or PRA@fcc.gov.

To view a copy of this information collection request (ICR) submitted to OMB: (1) Go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the title of this ICR (or its OMB control number, if there is one) and then click on the ICR Reference Number to view detailed information about this ICR.”

FOR FURTHER INFORMATION CONTACT: For additional information or copies of the information collection(s), contact Cathy Williams at (202) 418-2918.

SUPPLEMENTARY INFORMATION: OMB Control Number: 3060-0896.

Title: Broadcast Auction Form Exhibits.

Form Number: Not applicable.

Type of Review: Revision of a currently approved collection.

Respondents: Business or other for profit entities; not-for-profit institutions; State, local or tribal government.

Number of Respondents and Responses: 3,500 respondents; 7,605 responses

Estimated Hours per Response: 0.5 to 2 hours

Frequency of Response: On occasion reporting requirement.

Annual Burden: 8,628 hours.

Annual Cost Burden: $10,163,100.

Obligation to Respond: Required to obtain or retain benefits. The statutory authority for this collection of information is contained in 154(i) and 309 of the Communications Act of 1934, as amended.

Nature and Extent of Confidentiality: There is no need for confidentiality.

Privacy Impact Assessment(s): No impact(s).

Needs and Uses: On December 18, 2007, the Commission adopted a Report and Order and Third Further Notice of Proposed Rulemaking (“the Diversity Order”) in MB Docket Nos. 07-294; 06-121; 02-277; 04-228, MM Docket Nos. 01-235; 01-317; 00-244; FCC 07-217, which expands opportunities for participation in the broadcasting industry by new entrants and small businesses, including minority and women-owned businesses.

Currently, the media interests held by an individual or company with an equity and/or debt interest in an auction applicant are attributed to that applicant, for purposes of determining its eligibility for the new entrant bidding credit, if the equity and debt interests exceed 33 percent of the total asset value of the applicant. In order to make it easier for small businesses and new entrants to acquire broadcast licenses, and acquire the capital to compete in the marketplace with better financed companies, in the Diversity Order the Commission relaxed the rule standard, so to allow for higher investment opportunities in entities meeting the definition of “eligible entities.” An “eligible entity” is defined as an entity that would qualify as a small business consistent with the Small Business Administration (“SBA”) standards for its industry grouping, based on revenue.

Pursuant to the Diversity Order, the Commission will now allow the holder of an equity or debt interest in the applicant to exceed the above-noted 33 percent threshold without triggering attribution provided: (1) The combined equity or debt in the “eligible entity” is less than 50 percent, or (2) the total debt in the “eligible entity” does not exceed 80 percent and the interest holder does not hold any option to acquire an additional interest in the “eligible entity.”

Consistent with actions taken by the Commission in the Diversity Order, a new question has been added to the new entrant bidding credit section of the broadcast auction application form. It simply requires applicants to make explicit any claim that they are “eligible entities,” as a basis for claiming a bidding credit. The question states: “Does the applicant claim to be an ‘eligible entity’ as defined in 47 CFR 73.5008(c), for purposes of claiming eligibility for the new entrant bidding credit?” Additional information showing proof of compliance is not required at the pre-auction application stage. The Commission also foresees a new universe of respondents to the collection—those broadcast auction applicants claiming eligibility for the new entrant bidding credit based on their status as an “eligible entity.”

The Commission auctions mutually exclusive applications for full power commercial AM and FM radio, television services, Instructional Television Fixed Services (ITFS), and all secondary commercial broadcast services (e.g., Low Power TV (LPTV), FM translators and television translators). The Commission requires the use of the FCC Form 175 (OMB Control Number 3060-0600) to participate in all broadcast auctions. Broadcast applicants are also required to submit certain exhibits which are covered in this information collection as discussed below.

To facilitate the identification of groups of mutually exclusive applicants for non-table services which include the AM radio, LPTV, and TV/FM translator services, the Commission requires applicants to submit the engineering portions of the pertinent long-form application (FCC Form 301 (OMB Control Number 3060-0027), FCC Form 346 (OMB Control Number 3060-0016), or FCC Form 349 (OMB Control Number 3060-0405) ) necessary to determine mutual exclusivity.

In instances where analog television licensees file major modification applications, the Commission requires that such applicants also file the engineering data. These applicants are required to file the electronic versions of FCC Forms 301, 346 or 349.

Federal Communications Commission.
Marlene H. Dortch,
Secretary.

[FR Doc. E8-25721 Filed 10-27-08; 8:45 am]

BILLING CODE 6712-01-P